SMALL BUSINESS ADMINISTRATION

[Disaster Declaration # 14330 and # 14331]

Oklahoma Disaster Number OK-00092

AGENCY: U.S. Small Business Administration.

ACTION: Amendment 4.

SUMMARY: This is an amendment of the Presidential declaration of a major disaster for the State of Oklahoma (FEMA—4222—DR), dated 05/26/2015.

Incident: Severe Storms, Tornadoes, Straight Line Winds, and Flooding

Incident Period: 05/05/2015 through 06/04/2015

Effective Date: 06/12/2015

Physical Loan Application Deadline Date: 07/27/2015

EIDL Loan Application Deadline Date: 02/26/2016

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Oklahoma, dated 05/26/2015 is hereby amended to include the following areas as adversely affected by the disaster:

Primary Counties: (Physical Damage and Economic Injury Loans): Beckham, Caddo, Canadian, Marshall, Mcintosh, Seminole, Wagoner.

Contiguous Counties: (Economic Injury Loans Only):

Oklahoma: Blaine, Cherokee, Custer, Harmon, Love, Mayes, Muskogee, Okmulgee, Roger Mills, Rogers, Tulsa.

Texas: Collingsworth, Wheeler.

All other information in the original declaration remains unchanged.

(Catalog of Federal Domestic Assistance Numbers 59002 and 59008)

James E. Rivera,
Associate Administrator for Disaster Assistance.

[FR Doc. 2015-15189 Filed 6-18-15; 8:45 am]

BILLING CODE 8025-01-P